DEPARTMENT OF LABOR

Employment and Training Administration

[NAFTA-7647 and NAFTA-7647A]

Cerf Brothers Bag Co., New London, MO, Cerf Brothers Bag Co., Vandalia, MO; Notice of Termination of Investigation

Pursuant to Title V of the North American Free Trade Agreement Implementation Act (Pub. L. 103-182) concerning transitional adjustment assistance, hereinafter called (NAFTA-TAA), and in accordance with section 250(a), Subchapter D, Chapter 2, Title II, of the Trade Act of 1974, as amended (19 U.S.C. 2273), an investigation was initiated on November 1, 2002, in response to a petition filed by three workers on behalf of workers at Cerf Brothers Bag Company, New London, Missouri (NAFTA-7647) and Cerf Brothers Bag Company, Vandalia, Missouri (NAFTA-7647A).

The petition has been deemed invalid. Three workers may not file on behalf of workers at another location of a firm. Consequently, further investigation in this case would serve no purpose, and the investigation has been terminated.

Signed at Washington, DC, this 7th day of March 2003.
Linda G. Poole,
Certifying Officer, Division of Trade Adjustment Assistance.

[FR Doc. 03-6415 Filed 3-17-03; 8:45 am]

BILLING CODE 4510-30-P